DEPARTMENT OF HEALTH AND HUMAN SERVICES

Centers for Medicare & Medicaid Services

[Document Identifier: CMS-10270, CMS-10136, CMS-10268, and CMS-855(A, B, I, R)]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Evaluation of the Home Health Pay for Performance Demonstration: Survey instrument; Use: The Home Health Pay for Performance Demonstration is part of a change by CMS toward performance-based purchasing for a variety of provider types. By providing financial incentives for achieving high levels of performance on standardized quality measures, CMS hopes to encourage health care providers to improve the quality of care provided to Medicare beneficiaries. The Home Health Pay for Performance Demonstration (HHP4PD) relies on the voluntary participation by home health agencies within several States, with random assignment of participating agencies to treatment or control groups within each State, where the control group will not be eligible for incentive payments. These two groups form the primary comparison for determining if the HHP4PD was effective in creating improved, targeted outcomes for patients served by home health agencies. The information collected will be used as part of the evaluation of the Home Health Pay for Performance Demonstration sponsored by CMS. Form Number: CMS-10270 (OMB# 0938—New); Frequency: Once; Affected Public: Business or other for-profits and not-for-profit institutions; Number of Respondents: 570; Total Annual Responses: 570; Total Annual Hours: 285.

2. Type of Information Collection Request: Revision of a currently approved collection; Title of Information Collection: Medicare Demonstration Ambulatory Care Quality Measure Performance Assessment Tool (“PAT”); Use: CMS is requesting an extension of the currently approved tool for the collection of ambulatory care clinical performance measure data. The data will be used to continue implementation of two Congressionally mandated demonstration projects (the Physician Group Practice (PGP) Demonstration and the Medicare Care Management Performance (MCMP) Demonstration) and, starting in 2011, support data collection under the new Electronic Health Records (EHR) Demonstration. Each of these demonstrations, test new payment methods for improving the quality and efficiency of health care services delivered to Medicare fee-for-service beneficiaries, especially those with chronic conditions that account for a disproportionate share of Medicare expenditures. In addition, the MCMP and EHR demonstration specifically encourage the adoption of electronic health records systems as a vehicle for improving how health care is delivered.

The changes in the estimated burden between this submission and the original submission are due to the following changes: Combining the Information Collection Request (ICR) application for the PGP and MCMP demonstrations into a single ICR application. Reduction in the number of practices participating in the MCMP Demonstration. An increase in the estimated cost per hour (salary + fringe) for collecting the data. The implementation of the new EHR Demonstration which will begin collecting clinical quality data starting in 2011 with 400 Phase I practices. Form Number: CMS-10136 (OMB# 0938-0941); Frequency: Yearly; Affected Public: Business or other for-profits and not-for-profit institutions; Number of Respondents: 1,060; Total Annual Responses: 1,060; Total Annual Hours: 25,990.

3. Type of Information Collection Request: New collection; Title of Information Collection: Consolidated Renal Operations in a Web Enabled Network (CROWNWeb) Third-party Submission Authorization Form; Use: The Consolidated Renal Operations in a Web Enabled Network (CROWNWeb) Third-Party Submission Authorization form is to be completed by “Facility Administrators” (administrators of CMS-certified dialysis facilities) if they intend to authorize a third party (a business with which the facility is associated, or an independent vendor) to submit data to CMS to comply with the recently-revised Conditions for Coverage of dialysis facilities. The CROWNWeb system is the system used as the collection point of data necessary for entitlement of ESRD patients to Medicare benefits and for Federal Government monitoring and assessing of the quality and types of care provided to renal patients. The information collected through the CWTPSA form will allow CMS and its contractors to receive data from authorized parties acting on behalf of CMS-certified dialysis facilities. CMS anticipates that roughly 3,000 signed forms will be received by February 2009, and that the total number of forms may reach 5,100 by February 2012. Form Number: CMS-10266 (OMB# 0938—New); Frequency: Monthly; Affected Public: Business or other for-profits and not-for-profit institutions; Number of Respondents: 5,100; Total Annual Responses: 5,100; Total Annual Hours: 425.

4. Type of Information Collection Request: Revision of a currently approved collection; Title of Information Collection: Medicare Enrollment Application; Form Number: CMS-855 (A, B, I, R) (OMB#: 0938-0685); Use: The primary function of the Medicare enrollment application is to gather information from a provider or supplier that tells us who it is, whether it meets certain qualifications to be a health care provider or supplier, where it practices or renders its services, the identity of the owners of the enrolling entity, and information necessary to establish correct claims payments. We are revising this currently approved information collection. The goal of the revisions to this information collection request (ICR) is to adjust the burden associated with this ICR to account for the removal of the CMS-855(S) application. Frequency: Recordkeeping and Reporting—On occasion; Affected Public: Business or other for-profit and not-for-profit institutions; Number of Respondents: 400,000; Total Annual Responses: 400,000; Total Annual Hours: 785,702.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on October 14, 2008. OMB Human Resources and Housing Branch, Attention: OMB Desk Officer, New Executive Office Building, Room 10235, Washington, DC 20503, Fax Number: (202) 395-6974.

Dated: September 5, 2008.
Michelle Shortt,
Director, Regulations Development Group, Office of Strategic Operations and Regulatory Affairs.

[FR Doc. E8-21157 Filed 9-10-08; 8:45 am]

BILLING CODE 4120-01-P